DEPARTMENT OF JUSTICE

Notice of Lodging of Consent Decree Under the Comprehensive Environmental Response Compensation and Liability Act

Pursuant to 28 CFR 507 notice is hereby given that on October 16, 2003, eleven proposed Consent Decrees in the case United States v. Brothers Machine & Tool, Inc., et al. Civil Action No. LACV 03-07406 DDP (RNBx) were lodged with the United States District Court for the Central District of California.

In this action, under sections 106 and 107 of CERCLA, 42, U.S.C. 9606 and 9607, the United States sought injunctive relief and recovery of response costs to remedy conditions in connection with the release or threatened release of hazardous substances into the environment at the Waste Disposal, Inc. Superfund Site in Santa Fe Springs, California (hereinafter referred to as the “Site”).

The defendants in this action are as follows: Brothers Machine & Tool, Inc.; Chasin Trust; Hanson Trust; Searing Revocable Trust; Lucille F. Ferris Living Trust; John I. Maple Family Partnership; Thomas J. Mersits; Irene L. Mersits Trust; David Joseph Neptune Family Trust; O.R.P. LLC; Danny R. Peoples and Dena Peoples, Eddie E. Timmons; Eugene Geraldine Welter Trust; Graziano Trust; Los Nietos Property LLC. and Jovita L. Ortega.

Each of the defendants in this action own a portion of the Site (“Landowner(s)”), and the purpose of each of the settlements is to provide to the United States the access and institutional controls which are required to perform the remedial action at the Site. In return, the United States has given, to each Landowner in each decree, its covenants not to sue and contribution protection.

Each Landowner settlement is related to a prior consent decree in the case of United States v. Archer Daniels, et al. Civil Action No. 03-CV-1593WJR, wherein defendants which had allegedly arranged for the disposal of hazardous substances at the Site had agreed to perform the Site Remedy. This decree was entered by the United States District Court for the Central District of California on August 12, 2003.

The Department of Justice will receive for a period of thirty (30) days from the date of this publication comments relating to any of the Landowner Consent Decrees. Comments should be addressed to the Assistant Attorney General, Environment and Natural Resources Division, P.O. Box 7611, U.S. Department of Justice, Washington, DC 20044-7611, and should refer to United States v. Brothers Machine & Tool, Inc., et al., D.J. Ref. 90-11-2-1000/1. As each Consent Decree includes a covenant not to sue under Section 7003 of RCRA, 42 U.S.C. 6973(d), commenters may request an opportunity for a public meeting in the affected area, in accordance with section 7003(d) of RCRA, 42 U.S.C. 6973(d).

Each Consent Decree may be examined at U.S. EPA Region IX, 75 Hawthorne Street, San Francisco, CA 94107. During the public comment period, each Consent Decree, may also be examined on the following Department of Justice Web site, http://www.usdoj.gov/enrd/open.html. A copy of each Consent Decree may also be obtained by mail from the Consent Decree Library, P.O. Box 7611, U.S. Department of Justice, Washington, DC. 20044-7611 or by faxing or e-mailing a request to Tonia Fleetwood (tonia.fleetwood@usdoj.gov), fax no. (202) 514-0097, phone confirmation number (202) 514-1547. In requesting a copy of each Landowner Consent Decree from the Consent Decree Library, please enclose a check in the amount of $63.50 (25 cents per page reproduction cost) per Consent Decree payable to the U.S. Treasury. In requesting a copy of each Consent Decree, exclusive of exhibits and defendants' signatures, please enclose a check in the amount of $11.00 (25 cents per page reproduction cost) payable to the U.S. Treasury.

Ellen M. Mahan,
Assistant Section Chief, Environmental Enforcement Section.

[FR Doc. 03-28459 Filed 11-13-03; 8:45 am]

BILLING CODE 4410-15-M